DEPARTMENT OF TRANSPORTATION

Federal Aviation Administration

14 CFR Part 39

[Docket No. FAA-2025-3424; Project Identifier AD-2025-01362-A; Amendment 39-23164; AD 2025-20-11]

RIN 2120-AA64

Airworthiness Directives; Textron Aviation Inc. Airplanes

AGENCY: Federal Aviation Administration (FAA), DOT.

ACTION: Final rule; request for comments.

SUMMARY: The FAA is adopting a new airworthiness directive (AD) for certain Textron Aviation Inc. (Textron) Model B200GT, B200CGT, B300, and B300C airplanes. This AD was prompted by a report of rudder control pushrod failure during a production ground run, caused by sheared rivets off of a rudder control pushrod. This AD requires a visual inspection of the attaching rivets of the pilot and copilot rudder control pushrods for incorrect rivets and replacement if necessary. The FAA is issuing this AD to address the unsafe condition on these products.

DATES: This AD is effective October 17, 2025.

The Director of the Federal Register approved the incorporation by reference of a certain publication listed in this AD as of October 17, 2025.

The FAA must receive comments on this AD by November 17, 2025.

ADDRESSES: You may send comments, using the procedures found in 14 CFR 11.43 and 11.45, by any of the following methods:

• Federal eRulemaking Portal: Go to regulations.gov. Follow the instructions for submitting comments.

• Fax: (202) 493-2251.

• Mail: U.S. Department of Transportation, Docket Operations, M-30, West Building, Ground Floor, Room W12-140, 1200 New Jersey Avenue SE, Washington, DC 20590.

• Hand Delivery: Deliver to Mail address above between 9 a.m. and 5 p.m., Monday through Friday, except Federal holidays.

AD Docket: You may examine the AD docket at regulations.gov under Docket No. FAA-2025-3424; or in person at Docket Operations between 9 a.m. and 5 p.m., Monday through Friday, except Federal holidays. The AD docket contains this final rule, any comments received, and other information. The street address for Docket Operations is listed above.

Material Incorporated by Reference:

• For Beechcraft material identified in this AD, contact Textron, One Cessna Boulevard, Wichita, KS 67215; phone: (316) 517-6061; email: customercare@txtav.com; website: www.txtav.com.

• You may view this material at the FAA, Airworthiness Products Section, Operational Safety Branch, 901 Locust, Kansas City, MO 64106. For information on the availability of this material at the FAA, call (817) 222-5110. It is also available at regulations.gov under Docket No. FAA-2025-3424.

FOR FURTHER INFORMATION CONTACT: David Enns, Aviation Safety Engineer, FAA, 1801 S Airport Road, Wichita, KS 67209; phone: (316) 946-4147; email: david.enns@faa.gov.

SUPPLEMENTARY INFORMATION:

Comments Invited

The FAA invites you to send any written data, views, or arguments about this final rule. Send your comments using a method listed under the ADDRESSES section. Include “Docket No. FAA-2025-3424; Project Identifier AD-2025-01362-A” at the beginning of your comments. The most helpful comments reference a specific portion of the final rule, explain the reason for any recommended change, and include supporting data. The FAA will consider all comments received by the closing date and may amend this final rule because of those comments.

Except for Confidential Business Information (CBI) as described in the following paragraph, and other information as described in 14 CFR 11.35, the FAA will post all comments received, without change, to regulations.gov, including any personal information you provide. The agency will also post a report summarizing each substantive verbal contact received about this final rule.

Confidential Business Information

CBI is commercial or financial information that is both customarily and actually treated as private by its owner. Under the Freedom of Information Act (FOIA) (5 U.S.C. 552), CBI is exempt from public disclosure. If your comments responsive to this AD contain commercial or financial information that is customarily treated as private, that you actually treat as private, and that is relevant or responsive to this AD, it is important that you clearly designate the submitted comments as CBI. Please mark each page of your submission containing CBI as “PROPIN.” The FAA will treat such marked submissions as confidential under the FOIA, and they will not be placed in the public docket of this AD. Submissions containing CBI should be sent to David Enns, Aviation Safety Engineer, FAA, 1801 S Airport Road, Wichita, KS 67209. Any commentary that the FAA receives which is not specifically designated as CBI will be placed in the public docket for this rulemaking.

Background

The FAA received a report that, during a production ground run for a Textron Model B200GT airplane, two rivets sheared off of a rudder control pushrod, causing the rudder control pushrod to fail. It was discovered that an incorrect type of rivet may have been installed during installation of the rudder control pushrod end that does not meet the strength requirements of the type design. Failure of a rudder control pushrod may result in a rudder jam or loss of rudder control. This condition, if not addressed, could result in loss of control of the airplane during flight or ground operations. The FAA is issuing this AD to address the unsafe condition on these products.

FAA's Determination

The FAA is issuing this AD because the agency determined the unsafe condition described previously is likely to exist or develop in other products of the same type design.

Material Incorporated by Reference Under 1 CFR Part 51

The FAA reviewed Beechcraft Mandatory Service Letter MTL-27-07, dated July 25, 2025 (Beechcraft Mandatory SL MTL-27-07), which specifies procedures for a visual inspection of the attaching rivets of the pilot and copilot rudder control pushrods for incorrect rivets and replacement if necessary. This material is reasonably available because the interested parties have access to it through their normal course of business or by the means identified in the ADDRESSES section.

AD Requirements

This AD requires accomplishing the actions specified in Beechcraft Mandatory SL MTL-27-07 described previously.

Justification for Immediate Adoption and Determination of the Effective Date

Section 553(b) of the Administrative Procedure Act (APA) (5 U.S.C. 551 et seq.) authorizes agencies to dispense with notice and comment procedures for rules when the agency, for “good cause,” finds that those procedures are “impracticable, unnecessary, or contrary to the public interest.” Under this section, an agency, upon finding good cause, may issue a final rule without providing notice and seeking comment prior to issuance. Further, section 553(d) of the APA authorizes agencies to make rules effective in less than thirty days, upon a finding of good cause.

An unsafe condition exists that requires the immediate adoption of this AD without providing an opportunity for public comments prior to adoption. The FAA has determined that the risk to the flying public justifies forgoing notice and comment prior to adoption of this rule because incorrect rivets used during installation of the rudder control pushrod do not meet the strength requirements of the type design. Failure of a rudder control pushrod may result in a rudder jam or loss of rudder control. Rudders are critical components to maintaining controlled flight and a rudder jam could lead to a loss of rudder control, and loss of control of the airplane. This condition could result at any time and without warning. Thus, the FAA has determined that the airplanes must be inspected within 20 hours time-in-service or 30 days, whichever occurs first. This compliance time is shorter than the time necessary for the public to comment and for publication of the final rule. Accordingly, notice and opportunity for prior public comment are impracticable and contrary to the public interest pursuant to 5 U.S.C. 553(b).

In addition, the FAA finds that good cause exists pursuant to 5 U.S.C. 553(d) for making this amendment effective in less than 30 days, for the same reasons the FAA found good cause to forgo notice and comment.

Regulatory Flexibility Act

The requirements of the Regulatory Flexibility Act (RFA) do not apply when an agency finds good cause pursuant to 5 U.S.C. 553 to adopt a rule without prior notice and comment. Because the FAA has determined that it has good cause to adopt this rule without prior notice and comment, RFA analysis is not required.

Costs of Compliance

The FAA estimates that this AD affects 89 airplanes of U.S. registry.

The FAA estimates the following costs to comply with this AD:

Estimated Costs
Action | Labor cost | Parts cost | Cost per product | Cost on U.S. operators
Inspect rudder control pushrod rivets | 8 work-hours × $85 per hour = $680 | $0 | $680 | $60,520

The FAA estimates the following costs to do any necessary replacements that would be required based on the results of the inspection. The agency has no way of determining the number of airplanes that might need these replacements:

On-Condition Costs
Action | Labor cost | Parts cost | Cost per product
Replace rudder control pushrod rivets | 16 work-hours × $85 per hour = $1,360 | $65 | $1,425

The FAA has included all known costs in its cost estimate. According to the manufacturer, however, some of the costs of this AD may be covered under warranty, thereby reducing the cost impact on affected operators.

Authority for This Rulemaking

Title 49 of the United States Code specifies the FAA's authority to issue rules on aviation safety. Subtitle I, section 106, describes the authority of the FAA Administrator. Subtitle VII: Aviation Programs describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866, and

(2) Will not affect intrastate aviation in Alaska.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2025-20-11 Textron Aviation Inc.: Amendment 39-23164; Docket No. FAA-2025-3424; Project Identifier AD-2025-01362-A.

(a) Effective Date

This airworthiness directive (AD) is effective October 17, 2025.

(b) Affected ADs

None.

(c) Applicability

This AD applies to Textron Aviation Inc. Model airplanes, certificated in any category, identified in paragraphs (c)(1) through (4) of this AD.

(1) Model B200GT, serial numbers (S/Ns) BY-335, BY-356, BY-443, BY-453, BY-454.

(2) Model B200CGT, S/Ns BZ-4 through BZ-9.

(3) Model B300, S/Ns FL-1173 through FL-1175 inclusive, FL-1177, FL-1181, FL-1184 through FL-1186 inclusive, FL-1189, FL-1193, FL-1197 through FL-1202 inclusive, FL-1210, FL-1211, FL-1213, FL-1218, FL-1220 through FL-1222 inclusive, FL-1225, FL-1228 through FL-1230 inclusive, FL-1232, FL-1233, FL-1240 through FL-1242 inclusive, FL-1244, FL-1245, FL-1249 through FL-1251 inclusive, FL-1253, FL-1257 through FL-1259 inclusive, FL-1262, FL-1265, FL-1266, FL-1269, FL-1271, FL-1275, FL-1276, FL-1277, FL-1280, FL-1284, FL-1286, FL-1287, FL-1290, FL-1291, FL-1293, FL-1296, FL-1305, FL-1310, FL-1315 through FL-1317 inclusive, FL-1319, and FL-1320.

(4) Model B300C, S/Ns FM-78 through FM-86, FM-88, FM-90 through FM-92 inclusive, FM-94, FM-96 through FM-107 inclusive, and FM-110.

(d) Subject

Joint Aircraft System Component (JASC) Code 2720, Rudder Control System.

(e) Unsafe Condition

This AD was prompted by a report of rudder control pushrod failure during a production ground run caused by sheared rivets off of a rudder control pushrod. The FAA is issuing this AD to detect and address incorrect rivets. The unsafe condition, if not addressed, could result in rudder jam or loss of rudder control, which could lead to loss of control of the airplane during flight or ground operations.

(f) Compliance

Comply with this AD within the compliance times specified, unless already done.

(g) Required Actions

(1) Within 20 hours time-in-service or 30 days, whichever occurs first after the effective date of this AD, do a visual inspection of the attaching rivets of the pilot and copilot rudder control pushrods for incorrect rivets in accordance with the Accomplishment Instructions, paragraphs 4. and 5., of Beechcraft Mandatory Service Letter (SL) MTL-27-07, dated July 25, 2025 (Beechcraft Mandatory SL MTL-27-07).

(2) Depending on the results of the visual inspection required by paragraph (g)(1) of this AD, do the following, as applicable:

(i) If two soft rivets are found adjacent to each other on the same rod end for one rudder control pushrod, before further flight, replace with rivet part number MS20470AD4-12 in accordance with the Accomplishment Instructions, paragraph 7., of Beechcraft Mandatory SL MTL-27-07.

(ii) If one soft rivet and one hard rivet are installed on any of the four rod ends, within 200 flight hours or 12 months of the visual inspection required by paragraph (g)(1) of this AD, whichever occurs first after the effective date of this AD, replace the soft rivet with rivet part number MS20470AD4-12 in accordance with the Accomplishment Instructions, paragraph 7., of Beechcraft Mandatory SL MTL-27-07.

(h) Alternative Methods of Compliance (AMOCs)

(1) The Manager, Central Certification Branch, FAA, has the authority to approve AMOCs for this AD, if requested using the procedures found in 14 CFR 39.19. In accordance with 14 CFR 39.19, send your request to your principal inspector or local Flight Standards District Office, as appropriate. If sending information directly to the manager of the Central Certification Branch, send it to the attention of the person identified in paragraph (i) of this AD and email to: AMOC@faa.gov.

(2) Before using any approved AMOC, notify your appropriate principal inspector, or lacking a principal inspector, the manager of the local flight standards district office/certificate holding district office.

(i) Additional Information

For more information about this AD, contact David Enns, Aviation Safety Engineer, FAA, 1801 S Airport Road, Wichita, KS 67209; phone: (316) 946-4147; email: david.enns@faa.gov.

(j) Material Incorporated by Reference

(1) The Director of the Federal Register approved the incorporation by reference (IBR) of the material listed in this paragraph under 5 U.S.C. 552(a) and 1 CFR part 51.

(2) You must use this material as applicable to do the actions required by this AD, unless the AD specifies otherwise.

(i) Beechcraft Mandatory Service Letter MTL-27-07, dated July 25, 2025.

(ii) [Reserved]

(3) For Beechcraft material identified in this AD, contact Textron Aviation Inc., One Cessna Boulevard, Wichita, KS 67215; phone: (316) 517-6061; email: customercare@txtav.com; website: www.txtav.com.

(4) You may view this material at the FAA, Airworthiness Products Section, Operational Safety Branch, 901 Locust, Kansas City, MO 64106. For information on the availability of this material at the FAA, call (817) 222-5110.

(5) You may view this material at the National Archives and Records Administration (NARA). For information on the availability of this material at NARA, visit www.archives.gov/federal-register/cfr/ibr-locations or email fr.inspection@nara.gov.

Issued on September 30, 2025.
Steven W. Thompson,
Acting Deputy Director, Compliance & Airworthiness Division, Aircraft Certification Service.

[FR Doc. 2025-19354 Filed 9-30-25; 4:15 pm]

BILLING CODE 4910-13-P